DEPARTMENT OF TRANSPORTATION

National Highway Traffic Safety Administration

49 CFR Part 541

[Docket No. NHTSA-2009-0085]

Final Theft Data; Motor Vehicle Theft Prevention Standard

AGENCY: National Highway Traffic Safety Administration (NHTSA), Department of Transportation.

ACTION: Publication of 2007 final theft data; Correction.

SUMMARY: The National Highway Traffic Safety Administration (NHTSA) published in the Federal Register of March 10, 2010, a document on thefts of model year (MY) 2007 passenger motor vehicles that occurred in calendar year (CY) 2007. The document was published with several errors. In that publication, a vehicle line was omitted from the theft rate data which affected the overall theft rate calculation, the number of vehicle lines above the 1990/1991 median theft rate and the vehicle rankings. Additionally, vehicle line names and production numbers were listed incorrectly. The republishing of this document in its entirety corrects those errors.

This document publishes the final data on thefts of model year (MY) 2007 passenger motor vehicles that occurred in calendar year (CY) 2007. The final 2007 theft data indicated a decrease in the vehicle theft rate experienced in CY/MY 2007. The final theft rate for MY 2007 passenger vehicles stolen in calendar year 2007 is 1.85 thefts per thousand vehicles, a decrease of 11.1 percent from the rate of 2.08 thefts per thousand in 2006.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: This final notice revises the Federal Register notice published on March 10, 2010 (75 FR 11005) which omitted a vehicle line from the theft rate list. This omission affected the theft rate calculation, the number of vehicle lines above the 1990/1991 median theft rate and the vehicle rankings. Additionally, vehicle line names and production numbers erroneously were not listed correctly. The document has been revised and is reprinted below in its entirety.

NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2007, the most recent calendar year for which data are available.

In calculating the 2007 theft rates, NHTSA followed the same procedures it used in calculating the MY 2006 theft rates. (For 2006 theft data calculations, see 73 FR 60633, October 14, 2008). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2007 theft rate for each vehicle line was calculated by dividing the number of reported thefts of MY 2007 vehicles of that line stolen during calendar year 2007 by the total number of vehicles in that line manufactured for MY 2007, as reported to the Environmental Protection Agency (EPA).

The final 2007 theft data show a decrease in the vehicle theft rate when compared to the theft rate experienced in CY/MY 2006. The final theft rate for MY 2007 passenger vehicles stolen in calendar year 2007 decreased to 1.85 thefts per thousand vehicles produced, a decrease of 11.1 percent from the rate of 2.08 thefts per thousand vehicles experienced by MY 2006 vehicles in CY 2006. The data has shown an overall decreasing trend in theft rates since CY 1993, with periods of increase from one year to the next.

For MY 2007 vehicles, out of a total of 206 vehicle lines, 15 lines had a theft rate higher than 3.5826 per thousand vehicles, the established median theft rate for MYs 1990/1991. (See 59 FR 12400, March 16, 1994). Of the 15 vehicle lines with a theft rate higher than 3.5826, 13 are passenger car lines, two are multipurpose passenger vehicle lines, and none are light-duty truck lines.

The MY 2007 theft rate reduction is consistent with the general decreasing trend of theft rates over the past 15 years as indicated by Figure 1. We note, however, that the theft rate from 2003 to 2007 is virtually unchanged (1.84 to 1.85). This suggests that the progress made since 1992 may have reached the limits of current approaches to reducing vehicle thefts, and that some new approaches should be added.

The agency believes that the theft rate reduction could be the result of several factors including the increased use of standard antitheft devices (i.e., immobilizers), vehicle parts marking, increased and improved prosecution efforts by law enforcement organizations and increased public awareness measures.

On Wednesday, June 10, 2009, NHTSA published the preliminary theft rates for CY 2007 passenger motor vehicles in the Federal Register (74 FR 27493). The agency tentatively ranked each of the MY 2007 vehicle lines in descending order of theft rate. The public was requested to comment on the accuracy of the data and to provide final production figures for individual vehicle lines. The agency used written comments to make the necessary adjustments to its data. As a result of the adjustments, some of the final theft rates and rankings of vehicle lines changed from those published in the June 2009 notice. The agency received written comments from Volkswagen Group of America, Inc. (VW) and Nissan North America, Inc. (Nissan).

In its comments, VW informed the agency that the entries for the Audi RS4, Audi A8, Audi A4/A4 Quattro/S4/S4 Avant and Audi RS4 were listed with incorrect manufacturer designations. The final theft data has been revised to reflect that Audi is the manufacturer for the Audi RS4, Audi A8, Audi A4/A4 Quattro/S4/S4 Avant and Audi RS4 vehicles.

Additionally, Nissan informed the agency that its Nissan Xterra and Versa vehicle lines were not listed in the agency's June 2009 publication of preliminary data. Upon review, the agency notes that the Nissan Xterra and the Nissan Versa were erroneously omitted from the publication of preliminary theft data and therefore, has corrected the final theft data to reflect the theft rate information for both vehicle lines. As a result of this correction, the Nissan Xterra is ranked No. 69 with a theft rate of 1.6061 and the Nissan Versa is ranked No. 95 with a theft rate of 1.3216.

Reanalysis of the theft rate data revealed that the Pontiac G6 was listed twice with a ranking at No. 13 and No. 66. The correct ranking for the Pontiac G6 is No. 13 with a theft rate of 3.8282. The final theft data has been revised to reflect the correct rank of the Pontiac G6. Further reanalysis of the theft rate revealed that the Pontiac G5 was also omitted from the theft rate list. The Pontiac G5 has been added to the list. The final theft list has been revised accordingly. As a result of this correction, the Pontiac G5 previously not listed is now ranked No. 66 with a theft rate of 1.6416.

Review of the theft rate data also revealed that the Chrysler Crossfire was not included on the publication of preliminary theft data. NHTSA has corrected the final theft data to include the Chrysler Crossfire. As a result of this correction, the final theft list has been revised accordingly. The Chrysler Crossfire, previously omitted, is now ranked No. 194 with a theft rate of 0.0000.

The following list represents NHTSA's final calculation of theft rates for all 2007 passenger motor vehicle lines. This list is intended to inform the public of calendar year 2007 motor vehicle thefts of model year 2007 vehicles and does not have any effect on the obligations of regulated parties under 49 U.S.C. Chapter 331, Theft Prevention.

Final Report of Theft Rates for Model Year 2007 Passenger Motor Vehicles Stolen in Calendar Year 2007
| Manufacturer | Make/model (line) | Thefts 2007 | Production (Mfr's) 2007 | 2007 Theft rate (per 1,000 vehicles (produced)
1 | CHRYSLER | DODGE MAGNUM | 344 | 28059 | 12.2599
2 | CHRYSLER | DODGE CHARGER | 1148 | 120636 | 9.5162
3 | GENERAL MOTORS | CHEVROLET MONTE CARLO | 174 | 21689 | 8.0225
4 | GENERAL MOTORS | PONTIAC GRAND PRIX | 534 | 77689 | 6.8736
5 | CHRYSLER | 300 | 715 | 121529 | 5.8834
6 | MITSUBISHI | LANCER | 12 | 2355 | 5.0955
7 | ROLLS ROYCE | PHANTOM | 2 | 398 | 5.0251
8 | MERCEDES-BENZ | 215 (CL-CLASS) | 43 | 9296 | 4.6256
9 | FORD MOTOR CO | TAURUS | 510 | 114616 | 4.4496
10 | CHRYSLER | SEBRING | 338 | 78059 | 4.3301
11 | CHRYSLER | PT CRUISER | 443 | 104546 | 4.2374
12 | SUZUKI | FORENZA | 133 | 34236 | 3.8848
13 | GENERAL MOTORS | PONTIAC G6 | 629 | 164306 | 3.8282
14 | GENERAL MOTORS | CHEVROLET MALIBU | 487 | 127718 | 3.8131
15 | MITSUBISHI | GALANT | 103 | 27141 | 3.7950
16 | MAZDA | 6 | 201 | 56178 | 3.5779
17 | AUDI | AUDI RS4 | 5 | 1475 | 3.3898
18 | CHRYSLER | PACIFICA | 197 | 60392 | 3.2620
19 | GENERAL MOTORS | CHEVROLET COBALT | 703 | 215663 | 3.2597
20 | FORD MOTOR CO | MUSTANG | 518 | 159345 | 3.2508
21 | FORD MOTOR CO | LINCOLN TOWN CAR | 114 | 35281 | 3.2312
22 | CHRYSLER | DODGE CALIBER | 560 | 175537 | 3.1902
23 | KIA | OPTIMA | 127 | 40914 | 3.1041
24 | NISSAN | 350Z | 49 | 15831 | 3.0952
25 | NISSAN | INFINITI FX35 | 40 | 13346 | 2.9972
26 | GENERAL MOTORS | CADILLAC DTS | 140 | 47396 | 2.9538
27 | GENERAL MOTORS | CHEVROLET IMPALA | 769 | 267375 | 2.8761
28 | KIA | SPECTRA | 171 | 64591 | 2.6474
29 | KIA | RIO | 83 | 31947 | 2.5981
30 | MITSUBISHI | ECLIPSE | 107 | 42300 | 2.5296
31 | FORD MOTOR CO | FOCUS | 576 | 229738 | 2.5072
32 | GENERAL MOTORS | CHEVROLET AVEO | 166 | 67104 | 2.4738
33 | HYUNDAI | SONATA | 302 | 123439 | 2.4466
34 | VOLVO | S40 | 53 | 21905 | 2.4195
35 | HYUNDAI | ELANTRA | 192 | 80133 | 2.3960
36 | NISSAN | MAXIMA | 152 | 63601 | 2.3899
37 | BMW | M6 | 8 | 3400 | 2.3529
38 | MITSUBISHI | ENDEAVOR | 30 | 12805 | 2.3428
39 | NISSAN | SENTRA | 225 | 96584 | 2.3296
40 | FORD MOTOR CO | CROWN VICTORIA | 17 | 7424 | 2.2899
41 | CHRYSLER | JEEP LIBERTY | 209 | 91466 | 2.2850
42 | GENERAL MOTORS | CHEVROLET HHR | 223 | 99681 | 2.2371
43 | MERCEDES-BENZ | 220 (S-CLASS) | 91 | 41867 | 2.1735
44 | TOYOTA | COROLLA | 740 | 351414 | 2.1058
45 | NISSAN | INFINITI FX45 | 1 | 475 | 2.1053
46 | GENERAL MOTORS | CHEVROLET TRAILBLAZER | 257 | 122918 | 2.0908
47 | GENERAL MOTORS | BUICK LACROSSE/ALLURE | 113 | 54938 | 2.0569
48 | HUMMER | H3 | 95 | 46341 | 2.0500
49 | NISSAN | ALTIMA | 413 | 202162 | 2.0429
50 | SUZUKI | RENO | 62 | 30424 | 2.0379
51 | FORD MOTOR CO | MERCURY GRAND MARQUIS | 81 | 39757 | 2.0374
52 | JAGUAR | XK8 | 6 | 2965 | 2.0236
53 | KIA | SORENTO | 64 | 31798 | 2.0127
54 | MAZDA | 5 | 33 | 16424 | 2.0093
55 | GENERAL MOTORS | SATURN ION | 185 | 94117 | 1.9656
56 | AUDI | AUDI A8 | 10 | 5106 | 1.9585
57 | HYUNDAI | ACCENT | 86 | 44314 | 1.9407
58 | GENERAL MOTORS | CADILLAC CTS | 97 | 53360 | 1.8178
59 | FORD MOTOR CO | FUSION | 266 | 146464 | 1.8161
60 | NISSAN | PATHFINDER | 76 | 42137 | 1.8036
61 | HYUNDAI | AZERA | 40 | 22218 | 1.8003
62 | CHRYSLER | DODGE CARAVAN/GRAND CARAVAN | 284 | 164003 | 1.7317
63 | GENERAL MOTORS | CHEVROLET CORVETTE | 65 | 37744 | 1.7221
64 | BMW | M5 | 2 | 1163 | 1.7197
65 | VOLKSWAGEN | JETTA | 146 | 84922 | 1.7192
66 | GENERAL MOTORS | PONTIAC G5 | 54 | 32894 | 1.6416
67 | BMW | 6 | 11 | 6779 | 1.6227
68 | FORD MOTOR CO | FREESTAR VAN | 30 | 18579 | 1.6147
69 | NISSAN | XTERRA | 74 | 46074 | 1.6061
70 | NISSAN | INFINITI M35/M45 | 48 | 30144 | 1.5924
71 | TOYOTA | YARIS | 252 | 159292 | 1.5820
72 | HONDA | ACCORD | 664 | 421206 | 1.5764
73 | CHRYSLER | DODGE NITRO | 133 | 84441 | 1.5751
74 | MAZDA | RX-8 | 9 | 5728 | 1.5712
75 | FORD MOTOR CO | MERCURY MILAN | 55 | 35375 | 1.5548
76 | AUDI | AUDI A6/A6 QUATTRO/S6/S6 AVANT | 18 | 11660 | 1.5437
77 | FORD MOTOR CO | FIVE HUNDRED | 94 | 61270 | 1.5342
78 | TOYOTA | AVALON | 121 | 79137 | 1.5290
79 | NISSAN | MURANO | 137 | 92516 | 1.4808
80 | TOYOTA | HIGHLANDER | 148 | 100956 | 1.4660
81 | TOYOTA | CAMRY/SOLARA | 1003 | 685729 | 1.4627
82 | NISSAN | INFINITI G35 | 83 | 57041 | 1.4551
83 | GENERAL MOTORS | CHEVROLET UPLANDER VAN | 87 | 60061 | 1.4485
84 | GENERAL MOTORS | CADILLAC STS | 24 | 16746 | 1.4332
85 | GENERAL MOTORS | CADILLAC XLR | 2 | 1400 | 1.4286
86 | HONDA | S2000 | 7 | 4907 | 1.4265
87 | KIA | AMANTI | 6 | 4343 | 1.3815
88 | MERCEDES-BENZ | 208 (CLK-CLASS) | 19 | 13825 | 1.3743
89 | NISSAN | FRONTIER PICKUP | 87 | 64010 | 1.3592
90 | GENERAL MOTORS | CHEVROLET COLORADO PICKUP | 95 | 70012 | 1.3569
91 | GENERAL MOTORS | GMC CANYON PICKUP | 25 | 18483 | 1.3526
92 | BMW | 7 | 22 | 16421 | 1.3397
93 | TOYOTA | FJ CRUISER | 112 | 83830 | 1.3360
94 | MAZDA | 3 | 153 | 114723 | 1.3336
95 | NISSAN | VERSA | 107 | 80962 | 1.3216
96 | SUBARU | IMPREZA | 51 | 39198 | 1.3011
97 | AUDI | AUDI A4/A4 QUATTRO/S4/S4 AVANT | 64 | 49645 | 1.2892
98 | NISSAN | QUEST VAN | 47 | 36661 | 1.2820
99 | HONDA | ACURA TSX | 29 | 22669 | 1.2793
100 | KIA | SPORTAGE | 58 | 45512 | 1.2744
101 | TOYOTA | TACOMA PICKUP | 206 | 165714 | 1.2431
102 | FORD MOTOR CO | RANGER PICKUP | 94 | 77539 | 1.2123
103 | TOYOTA | 4RUNNER | 132 | 109124 | 1.2096
104 | MERCEDES-BENZ | 170 (SLK-CLASS) | 9 | 7459 | 1.2066
105 | GENERAL MOTORS | SATURN AURA | 77 | 64851 | 1.1873
106 | GENERAL MOTORS | PONTIAC TORRENT | 35 | 29918 | 1.1699
107 | HONDA | CIVIC | 389 | 332639 | 1.1694
108 | GENERAL MOTORS | CADILLAC FUNERAL COACH/HEARSE | 1 | 857 | 1.1669
109 | MITSUBISHI | OUTLANDER | 37 | 31873 | 1.1609
110 | AUDI | AUDI A3/A3 QUATTRO | 8 | 6992 | 1.1442
111 | VOLKSWAGEN | GOLF/RABBIT/GTI | 46 | 41314 | 1.1134
112 | GENERAL MOTORS | CHEVROLET EQUINOX | 94 | 87031 | 1.0801
113 | HYUNDAI | TIBURON | 15 | 13951 | 1.0752
114 | VOLKSWAGEN | PASSAT | 42 | 39867 | 1.0535
115 | MERCEDES-BENZ | 129 (SL-CLASS) | 8 | 7648 | 1.0460
116 | FORD MOTOR CO | MERCURY MONTEGO | 16 | 15439 | 1.0363
117 | GENERAL MOTORS | GMC ENVOY | 38 | 36989 | 1.0273
118 | HYUNDAI | TUCSON | 45 | 44033 | 1.0220
119 | HONDA | ACURA 3 2 TL | 5 | 4905 | 1.0194
120 | GENERAL MOTORS | BUICK TERRAZA VAN | 8 | 7865 | 1.0172
121 | FORD MOTOR CO | ESCAPE | 110 | 108788 | 1.0111
122 | JAGUAR | X-TYPE | 3 | 3018 | 0.9940
123 | HONDA | ACURA 3 5 RL | 49 | 49471 | 0.9905
124 | JAGUAR | VANDEN PLAS/SUPER V8 | 1 | 1010 | 0.9901
125 | SUZUKI | SX4 | 15 | 15421 | 0.9727
126 | VOLVO | S80 | 10 | 10805 | 0.9255
127 | GENERAL MOTORS | PONTIAC VIBE | 30 | 32499 | 0.9231
128 | HONDA | ELEMENT | 31 | 33688 | 0.9202
129 | MAZDA | B SERIES PICKUP | 3 | 3285 | 0.9132
130 | BMW | 5 | 47 | 51970 | 0.9044
131 | GENERAL MOTORS | SATURN SKY | 14 | 15546 | 0.9006
132 | GENERAL MOTORS | BUICK LUCERNE | 76 | 85922 | 0.8845
133 | TOYOTA | LEXUS LS | 31 | 35167 | 0.8815
134 | HONDA | ACURA RDX | 22 | 25159 | 0.8744
135 | CHRYSLER | JEEP WRANGLER | 88 | 100955 | 0.8717
136 | FORD MOTOR CO | EDGE | 105 | 121525 | 0.8640
137 | KIA | RONDO | 22 | 25524 | 0.8619
138 | TOYOTA | LEXUS RX | 82 | 98473 | 0.8327
139 | VOLKSWAGEN | EOS | 11 | 13406 | 0.8205
140 | TOYOTA | RAV4 | 145 | 181051 | 0.8009
141 | FORD MOTOR CO | FREESTYLE | 30 | 38047 | 0.7885
142 | HYUNDAI | SANTA FE | 89 | 113815 | 0.7820
143 | BMW | Z4/M | 8 | 10568 | 0.7570
144 | GENERAL MOTORS | PONTIAC SOLSTICE | 16 | 21310 | 0.7508
145 | SUZUKI | AERIO | 4 | 5544 | 0.7215
146 | PORSCHE | CAYMAN | 4 | 5552 | 0.7205
147 | PORSCHE | 911 | 9 | 12521 | 0.7188
148 | TOYOTA | LEXUS IS | 41 | 57055 | 0.7186
149 | MERCEDES-BENZ | 203 (C-CLASS) | 83 | 116282 | 0.7138
150 | BENTLEY MOTORS | CONTINENTAL | 3 | 4265 | 0.7034
151 | BMW | X3 | 22 | 31365 | 0.7014
152 | SUBARU | B9 TRIBECA | 8 | 11538 | 0.6934
153 | BMW | 3 | 97 | 139966 | 0.6930
154 | MAZDA | CX-7 | 52 | 75137 | 0.6921
155 | VOLVO | S60 | 14 | 20268 | 0.6907
156 | CHRYSLER | JEEP PATRIOT | 20 | 29421 | 0.6798
157 | ASTON MARTIN | VANTAGE | 1 | 1474 | 0.6784
158 | KIA | SEDONA VAN | 41 | 60873 | 0.6735
159 | HONDA | FIT | 46 | 68642 | 0.6701
160 | SUBARU | LEGACY/OUTBACK | 10 | 14963 | 0.6683
161 | TOYOTA | SIENNA VAN | 63 | 96072 | 0.6558
162 | HONDA | ACURA MDX | 35 | 53550 | 0.6536
163 | FORD MOTOR CO | MERCURY MONTEREY VAN | 1 | 1553 | 0.6439
164 | FORD MOTOR CO | LINCOLN MKX | 22 | 34571 | 0.6364
165 | GENERAL MOTORS | BUICK RAINIER | 3 | 4723 | 0.6352
166 | SUBARU | OUTBACK | 27 | 42747 | 0.6316
167 | HONDA | PILOT | 77 | 122033 | 0.6310
168 | FORD MOTOR CO | LINCOLN ZEPHYR | 20 | 32952 | 0.6069
169 | JAGUAR | XKR | 3 | 5030 | 0.5964
170 | TOYOTA | LEXUS GS | 17 | 28638 | 0.5936
171 | VOLVO | V50 | 2 | 3373 | 0.5929
172 | MERCEDES-BENZ | 210 (E-CLASS) | 31 | 52557 | 0.5898
173 | MAZDA | MX-5 MIATA | 7 | 13353 | 0.5242
174 | VOLVO | XC90 | 15 | 30762 | 0.4876
175 | GENERAL MOTORS | BUICK RENDEZVOUS | 14 | 29187 | 0.4797
176 | VOLKSWAGEN | NEW BEETLE | 13 | 27249 | 0.4771
177 | HYUNDAI | VERACRUZ | 6 | 12726 | 0.4715
178 | VOLVO | XC70 | 6 | 13197 | 0.4546
179 | HONDA | CR-V | 104 | 229378 | 0.4534
180 | PORSCHE | BOXSTER | 2 | 4427 | 0.4518
181 | TOYOTA | LEXUS ES | 54 | 121577 | 0.4442
182 | SUBARU | FORESTER | 19 | 43985 | 0.4320
183 | BMW | MINI COOPER | 15 | 38511 | 0.3895
184 | JAGUAR | S-TYPE | 1 | 2582 | 0.3873
185 | TOYOTA | PRIUS | 53 | 158715 | 0.3339
186 | SAAB | 9-3 | 7 | 22401 | 0.3125
187 | HONDA | ODYSSEY VAN | 64 | 208166 | 0.3074
188 | FORD MOTOR CO | MERCURY MARINER | 6 | 20842 | 0.2879
189 | VOLVO | C70 | 1 | 5612 | 0.1782
190 | TOYOTA | LEXUS SC | 8 | 80617 | 0.0992
191 | ASTON MARTIN | DB9 | 0 | 688 | 0.0000
192 | BENTLEY MOTORS | ARNAGE | 0 | 140 | 0.0000
193 | BENTLEY MOTORS | AZURE | 0 | 184 | 0.0000
194 | CHRYSLER | CROSSFIRE | 0 | 3412 | 0.0000
195 | FERRARI | 141 | 0 | 364 | 0.0000
196 | FERRARI | 430 | 0 | 1382 | 0.0000
197 | FERRARI | 612 SCAGLIETTI | 0 | 66 | 0.0000
198 | GENERAL MOTORS | CADILLAC LIMOUSINE | 0 | 648 | 0.0000
199 | JAGUAR | XJ8/XJ8L | 0 | 1645 | 0.0000
200 | JAGUAR | XJR | 0 | 221 | 0.0000
201 | LAMBORGHINI | GALLARDO | 0 | 558 | 0.0000
202 | LAMBORGHINI | MURCIELAGO | 0 | 164 | 0.0000
203 | MASERATI | QUATTROPORTE | 0 | 2176 | 0.0000
204 | SAAB | 9-5 | 0 | 4084 | 0.0000
205 | SPYKER | C8 | 0 | 7 | 0.0000
206 | VOLVO | V70 | 0 | 3899 | 0.0000

Issued on: July 29, 2010.
Stephen R. Kratzke,
Associate Administrator for Rulemaking.

[FR Doc. 2010-19100 Filed 8-6-10; 8:45 am]

BILLING CODE 4910-59-P